DEPARTMENT OF ENERGY

Federal Energy Regulatory Commission

[Docket No. CP14-96-000]

Algonquin Gas Transmission, LLC; Notice of Revised Public Comment Meeting and Additional Public Comment Meeting on the Draft Environmental Impact Statement for the Algonquin Incremental Market Project

On August 6, 2014, the Federal Energy Regulatory Commission (FERC or Commission) issued the Draft Environmental Impact Statement (EIS) for the Algonquin Incremental Market Project. The Draft EIS announced the close of the comment period on September 29, 2014 and identified four public comment meetings. This notice revises the date of the meeting to be held in Cortlandt Manor, New York from September 11, 2014 to September 15, 2014; and adds one new meeting in Mapleville, Rhode Island on September 16, 2014. The other announced meetings in Connecticut and Massachusetts will be held at the dates, times, and locations previously identified. The new meetings noticed herein will begin at 6:30 p.m. and are scheduled as follows:

Date | Location
Monday, September 15, 2014 (There is NO meeting on September 11, 2014) | Muriel H. Morabito Community Center, 29 Westbrook Drive, Cortlandt Manor, NY 10567, (914) 739-5845.
Tuesday, September 16, 2014 | Crystal Lake Golf Club, 100 Bronco Highway, Mapleville, RI 02839, (401) 567-4500.

This and all public meetings will be posted on the Commission's calendar located at www.ferc.gov/EventCalendar/EventsList.aspx along with other related information. Additional information about the project is available from the Commission's Office of External Affairs, at (866) 208-FERC, or on the FERC Web site at www.ferc.gov using the “eLibrary” link and the project docket number (i.e., CP-14-96).

Dated: August 15, 2014.
Kimberly D. Bose,
Secretary.

[FR Doc. 2014-19864 Filed 8-20-14; 8:45 am]

BILLING CODE 6717-01-P